DEPARTMENT OF ENERGY

10 CFR Part 431

[EERE-2021-BT-STD-0018]

RIN 1904-AE54

Energy Conservation Program: Energy Conservation Standards for Certain Commercial and Industrial Equipment; Early Assessment Review; Commercial and Industrial Pumps

AGENCY: Office of Energy Efficiency and Renewable Energy, Department of Energy.

ACTION: Extension of public comment period.

SUMMARY: On August 9, 2021, the U.S. Department of Energy (“DOE”) published a request for information (“RFI”) undertaking an early assessment review for amended energy conservation standards for commercial and industrial pumps (“pumps”). The RFI provided an opportunity for submitting written comments, data, and information by September 8, 2021. DOE received requests from Grundfos and Pentair on August 10, 2021 and August 12, 2021, respectively, asking DOE to extend the public comment period for 60 days until November 8, 2021. Additionally, DOE received requests from the Hydraulic Institute (“HI”), and a group of California Investor-Owned Utilities (“CA IOUs”), comprised of Pacific Gas and Electric Company, San Diego Gas and Electric and Southern California Edison, on August 12, 2021 and August 13, 2021, respectively, asking DOE to extend the public comment period for 30 days until October 8, 2021. DOE has reviewed these requests and is granting an extension of the public comment period to allow public comments to be submitted until October 8, 2021.

DATES: The comment period for the RFI published on August 9, 2021 (86 FR 43430) is extended. DOE will accept comments, data, and information regarding this RFI received no later than October 8, 2021.

ADDRESSES: Interested persons are encouraged to submit comments using the Federal eRulemaking Portal at www.regulations.gov. Follow the instructions for submitting comments. Alternatively, interested persons may submit comments, identified by docket number EERE-2021-BT-STD-0018, by email to Pumps2021STD0018@ee.doe.gov.

No telefacsimilies (“faxes”) will be accepted.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2021-BT-STD-0018. The docket web page contains instructions on how to access all documents, including public comments, in the docket.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket contact the Appliance and Equipment Standards Program staff at (202) 287-1445 or by email: ApplianceStandardsQuestions@ee.doe.gov.

SUPPLEMENTARY INFORMATION: On August 9, 2021, DOE published a RFI undertaking an early assessment review for amended energy conservation standards for pumps to determine whether to amend applicable energy conservation standards. Specifically, DOE is seeking data and information to evaluate whether amended energy conservation standards would result in a significant savings of energy; be technologically feasible; and be economically justified. 86 FR 43430. Interested parties in the matter, Grundfos (on August 10, 2021), HI (on August 12, 2021), Pentair (on August 12, 2021), and CA IOUs (on August 13, 2021), requested an extension of the public comment period for the RFI. (Grundfos, No. 2 at p. 1; HI, No. 3 at p. 1; Pentair., No. 4 at p. 1; CA IOUs, No. 5, at p. 1).¹ Grundos, HI, and Pentair commented that the extension is necessary to allow ample time to provide adequate comments on the issues identified. (Grundfos, No. 2 at p. 1; HI, No. 3 at p. 1; Pentair., No. 4 at p. 1) The CA IOUs noted that a data set of pump performance data was being complied by the Northwest Energy Efficiency Alliance (“NEEA”) and additional time was necessary to analyze and review the NEEA dataset. (CA IOUs, No. 5, at p. 1)

¹ The parenthetical reference provides a reference for information located in DOE's rulemaking docket. (Docket No. EERE-2021-BT-STD-0018, which is maintained at www.regulations.gov/#!docketDetail;D=EERE-2021-BT-STD-0018). The references are arranged as follows: (commenter name, comment docket ID number, page of that document).

DOE has reviewed the requests and is extending the comment period to allow additional time for interested parties to submit comments. As noted, the RFI was issued as part of an early assessment review to determine whether to amend energy conservation standards for pumps. Based on the information received in response to this RFI, DOE will determine whether to proceed with a rulemaking for a new or amended energy conservation standard. If DOE makes an initial determination that a new or amended energy conservation standard would satisfy the applicable statutory criteria or DOE's analysis is inconclusive, DOE would undertake the preliminary stages of a rulemaking to issue a new or amended energy conservation standard. If DOE makes an initial determination based upon available evidence that a new or amended energy conservation standard would not meet the applicable statutory criteria, DOE will engage in notice and comment rulemaking before issuing a final determination that new or amended energy conservation standards are not warranted. As such, DOE has determined that an extension of 30 days is sufficient for this preliminary stage. Therefore, DOE is extending the comment period until October 8, 2021.

Signing Authority

This document of the Department of Energy was signed on August 27, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 27, 2021.
Treena V. Garrett,
Federal Register Liaison Officer, U.S. Department of Energy.

[FR Doc. 2021-18885 Filed 9-1-21; 8:45 am]

BILLING CODE 6450-01-P